ENVIRONMENTAL PROTECTION AGENCY

40 CFR Part 52

[EPA-R09-OAR-2013-0508; FRL-9838-3]

Revisions to the California State Implementation Plan, Antelope Valley Air Quality Management District

AGENCY: Environmental Protection Agency (EPA).

ACTION: Proposed rule.

SUMMARY: EPA is proposing to approve revisions to the Antelope Valley Air Quality Management District (AVAQMD) portion of the California State Implementation Plan (SIP). These revisions concern standards for continuous emissions monitoring systems and oxides of sulfur (SOX) emissions. We are approving local rules that regulate continuous emissions monitoring systems and standards for gaseous sulfur emission sources under the Clean Air Act (CAA or the Act). We are taking comments on this proposal and plan to follow with a final action.

DATES: Any comments must arrive by August 26, 2013.

ADDRESSES: Submit comments, identified by docket number EPA-R09-OAR-2013-0508, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us,” and “our” refer to EPA.

Table of Contents

I. The State's Submittal

A. What rules did the State submit?

B. Are there other versions of these rules?

C. What is the purpose of the submitted rule revisions?

II. EPA's Evaluation and Action

A. How is EPA evaluating the rules?

B. Do the rules meet the evaluation criteria?

C. EPA Recommendations To Further Improve the Rules

D. Public Comment and Proposed Action

III. Statutory and Executive Order Reviews

I. The State's Submittal

A. What rules did the State submit?

Table 1 lists the rules addressed by this proposal with the dates that they were adopted by the local air agency and submitted by the California Air Resources Board.

Table 1—Submitted Rules
Local agency | Rule No. | Rule title | Adopted | Submitted
AVAQMD | 218 | Continuous Emission Monitoring | 07/17/12 | 02/06/13
AVAQMD | 218.1 | Continuous Emission Monitoring Performance Specifications | 07/17/12 | 02/06/13
AVAQMD | 431.1 | Sulfur Content of Gaseous Fuels | 08/21/12 | 04/22/13

On April 9, 2013 for AVAQMD Rules 218 and 218.1, and on June 26, 2013 for AVAQMD Rule 431.1, EPA determined the submittals met the completeness criteria in 40 CFR Part 51 Appendix V, which must be met before formal EPA review.

B. Are there other versions of these rules?

We approved an earlier version of Rule 218 into the SIP on September 2, 2008 (73 FR 51226). AVAQMD adopted revisions to the SIP-approved version on July 17, 2012 and CARB submitted them to us on February 6, 2013.

There is no previous version of Rule 218.1 in the SIP. AVAQMD adopted Rule 218.1 on July 17, 2012 and CARB submitted it to us on February 6, 2013.

We approved an earlier version of Rule 431.1 into the SIP on October 19, 1984 (49 FR 41028).¹ AVAQMD adopted revisions to Rule 431.1 on August 21, 2012 and CARB submitted them to us on April 22, 2013.

¹ The 1984 SIP approval of Rule 431.1 was actually for the South Coast Air Quality Management District (SCAQMD). The Antelope Valley Air Pollution Control District (AVAPCD) was formed on July 1, 1997 from the SCAQMD. All South Coast rules in effect at the time remain in effect under the newly formed AVAPCD until such time that Antelope Valley amended or rescinded the rule. On January 1, 2002, Antelope Valley Air Quality Management District replaced the AVAPCD.

While we can act on only the most recently submitted version of these rules, we have reviewed materials provided with previous submittals.

C. What is the purpose of the submitted rule revisions?

Oxides of Nitrogen (NOX) help produce ground-level ozone, smog and particulate matter, which harm human health and the environment. Sulfur Dioxide (SO2) exposure is associated with adverse respiratory effects and can contribute to fine particle pollution. Carbon Monoxide (CO) contributes to the formation of smog and can also harm human health. Section 110(a) of the CAA requires States to submit regulations that control the primary and secondary National Ambient Air Quality Standards (NAAQS), which includes NOX, SO2, and CO emissions.

Rule 218 establishes requirements for continuous emission monitors of NOX, SO2, gaseous sulfur compounds, and CO. Rule 218 was amended to better define specifications and guidelines for continuous emission monitoring systems (CEMS), delete obsolete language, and clarify administrative requirements. The original SIP approved rule was separated into an administrative portion and a technical portion. Rule 218 now contains the administrative requirements for CEMS and covers applicability, the application and approval process for CEMS, and recordkeeping and reporting requirements for CEMS. The technical requirements for CEMS were update and form the basis for a new rule, Rule 218.1.

Rule 218.1 is a new rule and contains requirements for the certification of CEMS, the performance specifications of CEMS, and the operation and maintenance of CEMS.

Rule 431.1 limits the sulfur content of fuels such as landfill gases, sewage digester gases, refinery gases and other gaseous fuels.

EPA's technical support documents (TSD) have more information about these rules.

II. EPA's Evaluation and Action

A. How is EPA evaluating the rules?

Generally, SIP rules must be enforceable (see section 110(a) of the Act) and must not relax existing requirements (see sections 110(l) and 193). The AVAQMD regulates an ozone nonattainment area classified as severe for the 1997 8-hour ozone NAAQS. AVAQMD is in attainment for the 1971 primary CO standard and designated as “better than national standard” for the 1971 primary SO2 standard (see 40 CFR Part 81.305).

Guidance and policy documents that we use to evaluate enforceability requirements consistently include the following:

1. “Issues Relating to VOC Regulation Cutpoints, Deficiencies, and Deviations,” EPA, May 25, 1988 (the Bluebook).

2. “Guidance Document for Correcting Common VOC & Other Rule Deficiencies,” EPA Region 9, August 21, 2001 (the Little Bluebook).

3. 40 CFR 60 Appendix B—Performance Specifications.

4. 40 CFR 60 Appendix F—Quality Assurance Procedures.

5. SO2 Guideline Document, EPA 452/R-94-008, February 1994.

B. Do the rules meet the evaluation criteria?

We believe these rules are consistent with the relevant policy and guidance regarding enforceability and SIP relaxations. AVAQMD's staff report for Rule 431.1 estimates there is a maximum SOx emissions shortfall of approximately 10 pounds per day (~2 tons per year) when the locally enforced limit of 40 ppm is raised to 250 ppm. Since the existing SIP limit is 250 ppm, we do not consider this a SIP relaxation. AVAQMD also amended the 250 ppm sulfur limit in Rule 431.1 for selling sewage digester gases. The rule now allows two compliance options. The first option, a 40 ppm daily average, is clearly more stringent than the existing 250 ppm SIP limit. The second option, a 40 ppm monthly average combined with a 500 ppm 15-minute average allows short term intermittent emissions to exceed the existing 250 ppm SIP limit for selling sewage digester gas. We do not believe this short term 500 ppm 15-minute average would adversely impact the District's ability to maintain the SO2 NAAQS for the following reasons: (1) A 40 ppm monthly average effectively limits a facility from emitting 500 ppm more than two days per month before it will exceed the 40 ppm monthly average limit; (2) District staff indicated there are two publicly owned treatment works and to their knowledge, the sewage digester gases are burned or flared (800 ppm existing SIP limit) and are not sold (250 ppm existing SIP limit); and (3) AVAQMD is in attainment for the 1971 primary SO2 NAAQS, and California points out that for the 2010 SO2 primary standard, ambient air quality monitoring in the Mojave Desert Air Basin shows a 2009 1-hour SO2 design value of 10 ppb, well below the 2010 federal standard of 75 ppb and that there have been no violations of the federal 1-hour SO2 standard measured over the last two decades, and violations are not expected in the future.² Since AVAQMD is in attainment for the SO2 NAAQS, Rule 431.1 is not a required SIP submittal. The TSD has more information on our evaluation.

² Letter from the California Air Resources Board (James Goldstene) to EPA Region 9 (Jared Blumenfeld) dated June 20, 2011, Page A24-32.

C. EPA Recommendations to Further Improve the Rules

Our comments to draft Rule 431.1 recommended AVAQMD revisit its Best Available Control Technology (BACT) analysis at a future date and consider cost information and data that may become available on carbon adsorption technology being tested under an experimental research permit in the South Coast Air Quality Management District. We are including this recommendation for the District to evaluate the next time AVAQMD amends Rule 431.1. We have no recommendations for Rules 218 or 218.1.

D. Public Comment and Proposed Action

Because EPA believes the submitted rules fulfill all relevant requirements, we are proposing to fully approve them as described in section 110(k)(3) of the Act. We will accept comments from the public on this proposal for the next 30 days. Unless we receive convincing new information during the comment period, we intend to publish a final approval action that will incorporate these rules into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this proposed action merely proposes to approve State law as meeting Federal requirements and does not impose additional requirements beyond those imposed by State law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this proposed action does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Intergovernmental relations, Nitrogen dioxide, Ozone, Particulate matter, Carbon monoxide, Reporting and recordkeeping requirements, Sulfur dioxide.

Dated: July 12, 2013.
Alexis Strauss,
Acting Regional Administrator, Region IX.

[FR Doc. 2013-18051 Filed 7-25-13; 8:45 am]

BILLING CODE 6560-50-P